DEPARTMENT OF ENERGY

Federal Energy Regulatory Commission

Combined Notice of Filings

Take notice that the Commission has received the following Natural Gas Pipeline Rate and Refund Report filings:

Docket Numbers: RP11-1845-000.

Applicants: ANR Pipeline Company.

Description: ANR Pipeline Company submits tariff filing per 154.403(d)(2): Fuel Filing 2011 to be effective 4/1/2011.

Filed Date: 03/01/2011.

Accession Number: 20110301-5102.

Comment Date: 5 p.m. Eastern Time on Monday, March 14, 2011.

Docket Numbers: RP11-1846-000.

Applicants: Cimarron River Pipeline, LLC.

Description: Cimarron River Pipeline, LLC submits tariff filing per 154.403(d)(2): Fuel Tracker 2011 to be effective 4/1/2011.

Filed Date: 03/01/2011.

Accession Number: 20110301-5129.

Comment Date: 5 p.m. Eastern Time on Monday, March 14, 2011.

Docket Numbers: RP11-1847-000.

Applicants: Florida Gas Transmission Company, LLC.

Description: Florida Gas Transmission Company, LLC submits tariff filing per 154.203: Compliance with CP09-17-000 to be effective 4/1/2011.

Filed Date: 03/01/2011.

Accession Number: 20110301-5135.

Comment Date: 5 p.m. Eastern Time on Monday, March 14, 2011.

Docket Numbers: RP11-1848-000.

Applicants: Equitrans, L.P.

Description: Equitrans, L.P. submits tariff filing per 154.204: Non-Conforming Agreement Filing—Stand Energy Corporation to be effective 4/1/2011.

Filed Date: 03/01/2011.

Accession Number: 20110301-5138.

Comment Date: 5 p.m. Eastern Time on Monday, March 14, 2011.

Docket Numbers: RP11-1849-000.

Applicants: Empire Pipeline, Inc.

Description: Empire Pipeline, Inc. submits tariff filing per 154.203: Annual Report of Compressor Fuel Factor (GT&C 23.5) to be effective N/A.

Filed Date: 03/01/2011.

Accession Number: 20110301-5142.

Comment Date: 5 p.m. Eastern Time on Monday, March 14, 2011.

Docket Numbers: RP11-1850-000.

Applicants: Sea Robin Pipeline Company, LLC.

Description: Sea Robin Pipeline Company, LLC submits tariff filing per 154.204: Hurricane Surcharge Filing 3-1-11 to be effective 4/1/2011.

Filed Date: 03/01/2011.

Accession Number: 20110301-5157.

Comment Date: 5 p.m. Eastern Time on Monday, March 14, 2011.

Docket Numbers: RP11-1851-000.

Applicants: Millennium Pipeline Company, LLC.

Description: Millennium Pipeline Company's Annual Report of Operational Transactions for Calendar Year 2010.

Filed Date: 03/01/2011.

Accession Number: 20110301-5173.

Comment Date: 5 p.m. Eastern Time on Monday, March 14, 2011.

Docket Numbers: RP11-1852-000.

Applicants: TransColorado Gas Transmission Company LLC.

Description: Annual Fuel Gas Reimbursement Percentage Report of TransColorado Gas Transmission Company LLC.

Filed Date: 03/01/2011.

Accession Number: 20110301-5199.

Comment Date: 5 p.m. Eastern Time on Monday, March 14, 2011.

Docket Numbers: RP11-1853-000.

Applicants: Columbia Gas Transmission, LLC.

Description: Columbia Gas Transmission, LLC submits tariff filing per 154.204: Negotiated Rate Service Agreement—Kinzer to be effective 4/1/2011.

Filed Date: 03/01/2011.

Accession Number: 20110301-5208.

Comment Date: 5 p.m. Eastern Time on Monday, March 14, 2011.

Docket Numbers: RP11-1854-000.

Applicants: Colorado Interstate Gas Company.

Description: Quarterly Lost Unaccounted for and Other Fuel—FL&U of Colorado Interstate Gas Company.

Filed Date: 03/01/2011.

Accession Number: 20110301-5210.

Comment Date: 5 p.m. Eastern Time on Monday, March 14, 2011.

Docket Numbers: RP11-1855-000.

Applicants: Florida Gas Transmission Company, LLC.

Description: Florida Gas Transmission Company, LLC submits tariff filing per 154.203: Baseline Filing Volume No. 1-A to be effective 4/1/2011.

Filed Date: 03/01/2011.

Accession Number: 20110301-5212.

Comment Date: 5 p.m. Eastern Time on Monday, March 14, 2011.

Docket Numbers: RP11-1856-000.

Applicants: Gulf South Pipeline Company, LP.

Description: Gulf South Pipeline Company, LP submits tariff filing per 154.204: EnCana Marketing Negotiated Rate Agreement Amendment to be effective 2/24/2011.

Filed Date: 03/01/2011.

Accession Number: 20110301-5231.

Comment Date: 5 p.m. Eastern Time on Monday, March 14, 2011.

Docket Numbers: RP11-1857-000.

Applicants: Florida Gas Transmission Company, LLC.

Description: Florida Gas Transmission Company, LLC submits tariff filing per 154.204: Housekeeping Filing 3-1-11 to be effective 4/1/2011.

Filed Date: 03/01/2011

Accession Number: 20110301-5236.

Comment Date: 5 p.m. Eastern Time on Monday, March 14, 2011.

Docket Numbers: RP11-1858-000.

Applicants: Florida Gas Transmission Company, LLC.

Description: Florida Gas Transmission Company, LLC submits tariff filing per 154.204: Fuel Filing 3-1-11 to be effective 4/1/2011.

Filed Date: 03/01/2011.

Accession Number: 20110301-5274.

Comment Date: 5 p.m. Eastern Time on Monday, March 14, 2011.

Docket Numbers: RP11-1859-000.

Applicants: Equitrans, L.P.

Description: Equitrans, L.P. submits tariff filing per 154.204: Pipeline Safety Cost Tracker Annual Filing to be effective 4/1/2011.

Filed Date: 03/01/2011.

Accession Number: 20110301-5280.

Comment Date: 5 p.m. Eastern Time on Monday, March 14, 2011.

Docket Numbers: RP11-1860-000.

Applicants: Dauphin Island Gathering Partners.

Description: Dauphin Island Gathering Partners submits tariff filing per 154.403: Storm Surcharge 2011 to be effective 4/1/2011.

Filed Date: 03/02/2011.

Accession Number: 20110302-5000.

Comment Date: 5 p.m. Eastern Time on Monday, March 14, 2011.

Docket Numbers: RP11-1861-000.

Applicants: Energy West Development, Inc.

Description: Energy West Development, Inc., Docket No. L&U Rate Filing.

Filed Date: 03/01/2011.

Accession Number: 20110301-5290.

Comment Date: 5 p.m. Eastern Time on Monday, March 14, 2011.

Docket Numbers: RP11-1862-000.

Applicants: Hardy Storage Company LLC.

Description: Hardy Storage Company, LLC submits for filing its annual report of its operational transactions (purchases, sales, borrows or tenders of natural gas) for the twelve months ended December 31, 2010.

Filed Date: 03/01/2011.

Accession Number: 20110301-5292.

Comment Date: 5 p.m. Eastern Time on Monday, March 14, 2011.

Docket Numbers: RP11-1863-000.

Applicants: Stingray Pipeline Company, L.L.C.

Description: Report of Stingray Pipeline Company, L.L.C.

Filed Date: 03/01/2011.

Accession Number: 20110301-5293.

Comment Date: 5 p.m. Eastern Time on Monday, March 14, 2011.

Docket Numbers: RP11-1864-000.

Applicants: Columbia Gulf Transmission Company.

Description: Columbia Gulf Transmission Company submits its annual report of its operational purchases and sales of natural gas for the twelve months ended December 31, 2010.

Filed Date: 03/01/2011.

Accession Number: 20110301-5295.

Comment Date: 5 p.m. Eastern Time on Monday, March 14, 2011.

Docket Numbers: RP11-1865-000.

Applicants: Columbia Gas Transmission, LLC.

Description: Columbia Gas Transmission, LLC submits its annual report of its operational transactions (purchases, sales, borrows or tenders of natural gas) for the twelve months ended December 31, 2010.

Filed Date: 03/01/2011.

Accession Number: 20110301-5296.

Comment Date: 5 p.m. Eastern Time on Monday, March 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 2, 2011.
Nathaniel J. Davis, Sr.,
Deputy Secretary.

[FR Doc. 2011-5248 Filed 3-8-11; 8:45 am]

BILLING CODE 6717-01-P